DEPARTMENT OF HOMELAND SECURITY

Coast Guard

[USCG-2005-21677]

Merchant Marine Personnel Advisory Committee

AGENCY: Coast Guard, DHS.

ACTION: Notice of meeting.

SUMMARY: A working group of the Merchant Marine Personnel Advisory Committee (MERPAC) will meet to discuss Task Statement #50 “Recommendations on a Training and Assessment Program for Qualified Member of the Engine Department on Sea-Going Vessels.” MERPAC advises the Secretary of Homeland Security on matters relating to the training, qualifications, licensing, certification, and fitness of seamen serving in the U.S. merchant marine. This meeting will be open to the public.

DATES: The MERPAC working group will meet on Tuesday, August 2, 2005 from 8:30 a.m. to 4 p.m. (local), and Wednesday, August 3, 2004, from 8:30 a.m. to 4 p.m. (local). This meeting may adjourn early if all business is finished. Requests to make oral presentations should reach the Coast Guard on or before July 26, 2004. Written material and requests to have a copy of your material distributed to each member of the working group should reach the Coast Guard on or before July 19, 2005.

ADDRESSES: The working group of MERPAC will meet in Room 1303 at U.S. Coast Guard Headquarters, 2100 Second Street, SW., Washington, DC 20593. Send written material and requests to make oral presentations to Mr. Mark Gould, Commandant (G-MSO-1), U.S. Coast Guard Headquarters, 2100 Second Street SW., Washington, DC 20593-0001. This notice and related documents are available on the Internet at http://dms.dot.gov under Docket Number USCG-2005-21677.

FOR FURTHER INFORMATION CONTACT: For questions on this notice, contact Mr. Mark C. Gould, Assistant to the Executive Director, telephone 202-267-6890, fax 202-267-4570, or e-mail mgould@comdt.uscg.mil.

SUPPLEMENTARY INFORMATION: Notice of this meeting is given under the Federal Advisory Committee Act, 5 U.S.C. App. 2. (Pub. L. 92-463, 86 Stat.770, as amended).

Agenda of August 2-3, 2005 Meeting

The working group will meet to discuss Task Statement #50 “Recommendations on a Training and Assessment Program for Qualified Member of the Engine Department on Sea-Going Vessels.” The working group will develop the competence standards for engine department ratings, other than ratings forming part of an engineering watch, for inclusion into the International Convention on Standards of Training, Certification and Watchkeeping for Seafarers (STCW), as amended. In preparing the competence standards, the working group will take into consideration the following documents: U.S. regulations for qualified members of the engine department found in Title 46, Code of Federal Regulations Subpart 12.15; MERPAC's recommendations to the Coast Guard on Task Statement #43 (Recommendations on a training and assessment program for able-bodied seamen on sea-going vessels); Regulation III/4 of the STCW Convention; and Section A-III/4 of the STCW Code. At the end of the meeting, the working group will summarize its discussions and prepare its program for the full committee to consider at its next meeting.

Procedural

This meeting is open to the public. Please note that the meeting may adjourn early if all business is finished. At the Chair's discretion, members of the public may make oral presentations during the meeting. If you would like to make an oral presentation at the meeting, please notify Mr. Gould no later than July 26, 2005. Written material for distribution at the meeting should reach the Coast Guard no later than July 26, 2005. If you would like a copy of your material distributed to each member of the committee or working group in advance of the meeting, please submit 25 copies to Mr. Gould no later than July 19, 2005.

Information on Services for Individuals With Disabilities

For information on facilities or services for individuals with disabilities or to request special assistance at the meeting, contact Mr. Gould at the numbers listed in FOR FURTHER INFORMATION CONTACT as soon as possible.

Dated: June 22, 2005.
Howard L. Hime,
Acting Director of Standards, Marine Safety, Security and Environmental Protection.

[FR Doc. 05-13067 Filed 6-30-05; 8:45 am]

BILLING CODE 4910-15-P